DEPARTMENT OF COMMERCE

Foreign-Trade Zones Board

[S-205-2024]

Approval of Subzone Status; Wurth Electronics Midcom, Inc.; Watertown, South Dakota

On November 20, 2024, the Executive Secretary of the Foreign-Trade Zones (FTZ) Board docketed an application submitted by the Sioux Falls Development Foundation, Inc., grantee of FTZ 220, requesting subzone status subject to the existing activation limit of FTZ 220, on behalf of Wurth Electronics Midcom, Inc., in Watertown, South Dakota.

The application was processed in accordance with the FTZ Act and Regulations, including notice in the Federal Register inviting public comment (89 FR 92892-92893, November 25, 2024). The FTZ staff examiner reviewed the application and determined that it meets the criteria for approval.

Pursuant to the authority delegated to the FTZ Board Executive Secretary (15 CFR 400.36(f)), the application to establish Subzone 220A was approved on January 28, 2025, subject to the FTZ Act and the Board's regulations, including section 400.13, and further subject to FTZ 220's 2,000-acre activation limit.

Dated: January 28, 2025.
Elizabeth Whiteman,
Executive Secretary.

[FR Doc. 2025-02052 Filed 1-30-25; 8:45 am]

BILLING CODE 3510-DS-P